DEPARTMENT OF HOMELAND SECURITY

Transportation Security Administration

[Docket No. TSA-2011-0008]

Aviation Security Advisory Committee; Public Meeting; Correction

AGENCY: Transportation Security Administration, DHS.

ACTION: Committee management; notice of open Federal advisory committee meeting; correction.

SUMMARY: This document makes a correction to a notice published in the Federal Register on November 22, 2024, which included an incorrect date for an upcoming public meeting of the Aviation Security Advisory Committee (ASAC). TSA erroneously stated that the meeting would be held on Thursday, December 11, 2024. TSA is revising the date to Wednesday, December 11, 2024.

DATES: Applicable December 2, 2024.

FOR FURTHER INFORMATION CONTACT: Tamika McCree Elhilali, Aviation Security Advisory Committee, Designated Federal Officer, U.S. Department of Homeland Security, Transportation Security Administration, 6595 Springfield Center Drive, (TSA-28), Springfield, Virginia 20598, ASAC@tsa.dhs.gov, 571-227-2632.

SUPPLEMENTARY INFORMATION: On November 22, 2024 (89 FR 92699), TSA published a notice which involves a public meeting of the ASAC. In the first sentence after the DATES section, TSA erroneously stated that the meeting would take place on Thursday, December 11, 2024. TSA is revising the date to read Wednesday, December 11, 2024. Accordingly, the sentence has been revised to correct the date of the meeting.

Correction

In the Federal Register of November 22, 2024, in FR Doc. 2024-27441, on page 92700, in the first column, line 17, correct the DATES discussion paragraph to read:

The meeting will take place on Wednesday, December 11, 2024. The meeting will begin at 10:00 a.m. and adjourn at 1:00 p.m., Eastern Standard Time (EST). As listed in the Public Participation section below, requests to attend the meeting, to address the ASAC, and/or for accommodations because of a disability, must be received by November 29, 2024.

Dated November 25, 2024.
Eddie D. Mayenschein,
Assistant Administrator, Policy, Plans, and Engagement.

[FR Doc. 2024-28162 Filed 11-29-24; 8:45 am]

BILLING CODE 9110-05-P